FEDERAL COMMUNICATIONS COMMISSION

47 CFR Part 73

[DA 00-1111, MM Docket No. 00-82, RM-9841; MM Docket No. 00-83, RM-9842; MM Docket No. 00-84, RM-9855; MM Docket No. 00-85, RM-9868; MM Docket No. 00-86, RM-9869; MM Docket No. 00-87, RM-9870; MM Docket No. 00-88, RM-9871; MM Docket No. 00-89, RM-9872]

Radio Broadcasting Services; McCook, NE; Butte Falls, OR; Jacksonville, GA; Las Vegas, NM; Vale, OR; Brightwood, OR; Dillsboro, NC; Waynesboro, GA

AGENCY: Federal Communications Commission.

ACTION: Proposed rule.

SUMMARY: The Commission requests comments on eight petitions for rule making requesting FM channel allotments at McCook, NE, Butte Falls, OR, Jacksonville, GA, Las Vegas, NM, Vale, OR, Brightwood, OR, Dillsboro, NC, and Waynesboro, GA.

DATES: Comments must be filed on or before July 10, 2000, and reply comments on or before July 25, 2000.

ADDRESSES: Federal Communications Commission, 445 12th Street, SW, Room TW-A325, Washington, DC 20554. In addition to filing comments with the FCC, interested parties should serve the petitioners, or their counsel or consultant, as follows: David M. Stout, Managing Member, McCook Radio Group, LLC, 1811 West “O” Street, McCook, NE 69001 (Petitioner in RM-9841); James S. Bumpous, Partner, Butte Falls Radio, 13915 Lakeview Drive, Austin, TX 78732 (Petitioner in RM-9849); Clyde and Connie Lee Scott,­d/b/a EME Communications, 293 JC Saunders Road, Moultrie, GA 31768 (Petitioner in RM-9855); Sangre de Christo Broadcasting Co., Inc., c/o Ernest T. Sanchez, 2000 L Street, NW, Suite 200, Washington, DC 20036 (Counsel to petitioner in RM-9868); Robin B. Thomas, President, New West Broadcasting, 1001 Weatherby Drive, Cheyenne, WY 82007 (Petitioner in RM-9869); Muddy Broadcasting Company, c/o Dawn M. Sciarrino, Clifford M. Harrington and Paul A. Cicelski, Shaw Pittman, 2300 N Street, NW, Washington, DC 20037 (Counsel to petitioner in RM-9870); Sutton Radiocasting Corporation, c/o John F. Garziglia, Patricia M. Chuh, Pepper & Corazzini, LLP, 1776 K Street, NW, Suite 200, Washington, DC 20006-2334 (Counsel to petitioner in RM-9871); C. Michael Adkins, SSR Communications Incorporated, 5116 Wesleyan Circle, Macon, GA 31210 (Petitioner in RM-9872).

FOR FURTHER INFORMATION CONTACT: Leslie K. Shapiro, Mass Media Bureau, (202) 418-2180.

SUPPLEMENTARY INFORMATION: This is a synopsis of the Commission's Notice of Proposed Rule Making, MM Docket Nos. 00-82, 00-83, 00-84, 00-85, 00-86, 00-87, 00-88, and 00-89, adopted May 10, 2000, and released May 19, 2000. The full text of this Commission decision is available for inspection and copying during normal business hours in the FCC Reference Center, 445 12th Street, SW, Washington, DC. The complete text of this decision may also be purchased from the Commission's copy contractor, International Transcription Services, Inc., (202) 857-3800, 1231 20th Street, NW, Washington, DC 20036.

Channel 280C2 can be allotted to McCook, NE, without the imposition of a site restriction, at coordinates 40-12-18 NL; 100-37-36 WL. Channel 255A can be allotted to Butte Falls, OR, with a site restriction of 1.9 kilometers (1.2 miles) northwest, at coordinates 42-33-05 NL; 122-35-18 WL, to avoid a short-spacing to Station KAGO-FM, Channel 258C1, Klamath Falls, OR. Channel 272A can be allotted to Jacksonville, GA, with a site restriction of 13.5 kilometers (8.4 miles) northwest, at coordinates 31-51-54 NL; 83-06-16 WL, to avoid a short-spacing to Stations WZAT, Channel 271C, Savannah, GA, WBGA, Channel 273C1, Waycross, GA, and WYSC, Channel 274A, McRae, GA. Channel 224A can be assigned to Las Vegas, NM, without the imposition of a site restriction, at coordinates 35-36-00 NL; 105-13-00 WL. Channel 288C can be allotted to Vale, OR, with a site restriction of 9.6 kilometers (6.0 miles) west, at coordinates 44-00-06 NL; 117-21-32 WL, to avoid a short-spacing to Stations KJOT, Channel 286C, Boise, ID, and KCIX, Channel 290C, Garden City, ID. Channel 251C3 can be allotted to Brightwood, OR, with a site restriction of 20.6 kilometers (12.8 miles) southeast, at coordinates 45-17-20 NL; 121-47-04 WL, to avoid a short-spacing to Station KUPL-FM, Channel 254C1, Portland, OR. Channel 237A can be allotted to Dillsboro, NC, with a site restriction of 10.7 kilometers (6.6 miles) southeast, at coordinates 35-18-21 NL; 83-09-50 WL, to avoid a short-spacing to Stations WIKQ, Channel 235C, Greeneville, TN, and WYFC, Channel 237A, Clinton, TN. Channel 225A can be allotted to Waynesboro, GA, with a site restriction of 2.0 kilometers (1.3 miles) northeast, at coordinates 33-06-23 NL; 82-00-14 WL, to avoid a short-spacing to Stations WKKZ, Channel 224C2, Dublin, GA, and WEAS-FM, Channel 226C1, Savannah, GA.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

Federal Communications Commission.
John A. Karousos,
Chief, Allocations Branch, Policy and Rules Division, Mass Media Bureau.

[FR Doc. 00-13598 Filed 5-31-00; 8:45 am]

BILLING CODE 6712-01-P